DEPARTMENT OF THE INTERIOR

Geological Survey

Technology Transfer Act of 1986

AGENCY: U.S. Geological Survey.

ACTION: Notice of proposed Cooperative Research & Development Agreement (CRADA) negotiations.

SUMMARY: The United States Geological Survey (USGS) is contemplating entering into a Cooperative Research and Development Agreement (CRADA) with the American Geological Institute to develop and distribute USGS GIS database information in a variety of educational mediums.

INQUIRIES: If any other parties are interested in similar activites with the USGS, please contact Beth Duff, Business Development Office, 12201 Sunrise Valley Drive, MS 500, Reston, Virginia, 20192, phone: (703) 648-4621.

SUPPLEMENTARY INFORMATION: This notice is submitted to meet the USGS policy requirements stipulated in Survey Manual Chapter 500.20.

Dated: August 8, 2002.
Robert A. Lidwin,
Acting Associate Director for Geography.

[FR Doc. 02-21516 Filed 8-22-02; 8:45 am]

BILLING CODE 4310-Y7-M